DEPARTMENT OF ENERGY

Federal Energy Regulatory Commission

[Docket No. RP01-229-001]

Trunkline LNG Co.; Notice of Compliance Filing

March 28, 2001.

Take notice that on March 22, 2001, Trunkline LNG Company (TLNG) tendered for filing as part of its FERC Gas Tariff, Original Volume No. 1-A, the following tariff sheet to be effective March 15, 2001:

Sub First Revised Sheet No. 23

TLNG asserts that the purpose of this filing is to comply with the Commission's Letter Order issued on March 14, 2001 in Docket No. RP01-229-000 which directed TLNG to clarify Section 3.8 of Rate Schedule FTS to reflect the removal of the price cap for capacity release transactions.

TLNG states that copies of this filing are being served on all affected customers, applciable state regulatory agencies and parties to this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-8113 Filed 4-2-01; 8:45 am]

BILLING CODE 6717-01-M